FEDERAL ENERGY REGULATORY COMMISSION

[Docket No. IC11-725D-000; FERC-725d ]

Commission Information Collection Activities; Comment Request; Extension

November 17, 2010.

AGENCY: Federal Energy Regulatory Commission.

ACTION: Notice of proposed information collection and request for comments.

SUMMARY: In compliance with the requirements of section 3506(c)(2)(A) of the Paperwork Reduction Act of 1995, 44 U.S.C. 3506(c)(2)(A) (2006), (Pub. L. 104-13), the Federal Energy Regulatory Commission (Commission or FERC) is soliciting public comment on the proposed information collection described below.

DATES: Comments in consideration of the collection of information are due January 24, 2011.

ADDRESSES: Commenters must send an original of their comments to: Federal Energy Regulatory Commission, Secretary of the Commission, 888 First Street, NE., Washington, DC 20426. Comments may be filed either on paper or on CD/DVD, and should refer to Docket No. IC11-725D-000. Documents must be prepared in an acceptable filing format and in compliance with Commission submission guidelines at http://www.ferc.gov/help/submission-guide.asp. eFiling and eSubscription are not available for Docket No. IC11-725D-000, due to a system issue.

All comments and FERC issuances may be viewed, printed or downloaded remotely through FERC's eLibrary at http://www.ferc.gov/docs-filing/elibrary.asp, by searching on Docket No. IC11-725D. For user assistance, contact FERC Online Support by e-mail at ferconlinesupport@ferc.gov, or by phone at: (866) 208-3676 (toll-free), or (202) 502-8659 for TTY.

FOR FURTHER INFORMATION CONTACT: Ellen Brown may be reached by e-mail at DataClearance@FERC.gov, telephone at (202) 502-8663, and fax at (202) 273-0873.

SUPPLEMENTARY INFORMATION: The information collected by the FERC-725D, “Facilities Design, Connections and Maintenance Reliability Standards” (OMB Control No. 1902-0247), is required to implement the statutory provisions of section 215 of the Federal Power Act (FPA) (16 USC 824o). On August 8, 2005, the Electricity Modernization Act of 2005, which is Title XII, Subtitle A, of the Energy Policy Act of 2005 (EPAct 2005), was enacted into law.¹ EPAct 2005 added a new section 215 to the FPA, which required a Commission-certified Electric Reliability Organization (ERO) to develop mandatory and enforceable reliability standards, which are subject to Commission review and approval. Once approved, the reliability standards may be enforced by the ERO subject to Commission oversight, or the Commission can independently enforce reliability standards.²

¹ Energy Policy Act of 2005, Public Law 109-58, Title XII, Subtitle A, 119 Stat. 594, 941 (2005), 16 U.S.C. 824o.

² 16 U.S.C. 824o(e)(3).

On February 3, 2006, the Commission issued Order No. 672, implementing section 215 of the FPA. Pursuant to Order No. 672, the Commission certified one organization, North American Electric Reliability Council (NERC), as the ERO. The reliability standards developed by the ERO and approved by the Commission will apply to users, owners and operators of the Bulk-Power System, as set forth in each reliability standard.

On November 15, 2006, NERC filed 20 revised reliability standards and three new reliability standards for Commission approval. The Commission addressed the 20 revised Reliability Standards in Order No. 693.³ The three new reliability standards were approved by FERC on December 27, 2007 in Order 705 and were designated by NERC as follows:

³ On March 16, 2007, the Commission approved 83 of the 107 standards initially filed by NERC. See Mandatory Reliability Standards for the Bulk-Power System, Order No. 693, 72 FR, 16,416 (April 4, 2007), 118 FERC ¶ 61,218 (2007), order on reh'g Order No. 693-A, 120 FERC ¶ 61,053 (2007).

• FAC-010-1 (System Operating Limits Methodology for the Planning Horizon).

• FAC-011-1 (System Operating Limits Methodology for the Operations Horizon).

• FAC-014-1 (Establish and Communicate System Operating Limits).

These standards were subsequently modified by NERC in April of 2008 and submitted to the Commission for approval. On March 20, 2009 the Commission approved NERC's modifications to the FAC standards in Order No. 722 and NERC now designates these standards as FAC-010-2, FAC-011-2, and FAC-014-2.⁴ The three newly approved FAC reliability standards require planning authorities and reliability coordinators to establish methodologies to determine system operating limits (SOLs) for the bulk-power system in the planning and operation horizons.

⁴ Version Two Facilities Design, Connections and Maintenance Reliability Standards, Order No. 722, 126 FERC Stats. & Regs. 61,255 (2009).

The three reliability standards do not require responsible entities to file information with the Commission. Nor, with the exception of a three-year self-certification of compliance, do the Reliability Standards require responsible entities to file information with the ERO or Regional Entities. However, the Reliability Standards do require responsible entities to develop and maintain certain information for a specified period of time, subject to inspection by the ERO or Regional Entities.

Reliability standard FAC-010-2 requires the planning authority to have a documented methodology for use in developing SOLs and must retain evidence that it issued its SOL methodology to relevant reliability coordinators, transmission operators and adjacent planning authorities. Likewise, the planning authority must respond to technical comments on the methodology within 45 days of receipt. Further, each planning authority must self-certify its compliance to the compliance monitor once every three years. Reliability standard FAC-011-2 requires similar documentation by the reliability coordinator.⁵ Reliability standard FAC-014-2 requires the reliability coordinator, planning authority, transmission operator, and transmission planner to verify compliance through self-certification submitted to the compliance monitor annually. These entities must also document that they have developed SOLs consistent with the applicable SOL methodology and that they have provided SOLs to entities identified in Requirement 5 of the reliability standard. Further, the planning authority must maintain a list of multiple contingencies and their associated stability limits.

⁵ The difference between the two is that FAC-10-1 deals with SOL methodology for the planning horizon and FAC-011-1 with SOL methodology for the operating horizon.

Action: The Commission is requesting a three-year extension of the FERC-725D reporting requirements, with no changes.

Burden Statement: The estimated annual public reporting burden follows:

Data collection | Number of respondents ⁶ | Average number of responses per respondent | Average burden hours per response | Total annual burden hours
| (1) | (2) | (3) | (1) × (2) × (3)
FERC-725D | 470 | 1 | Reporting: ⁷ 90 Recordkeeping: 210 | Reporting: 42,300 Recordkeeping: 98,700
Total | 470 |  |  | 141,000

The estimated average annualized cost is increased from the previous estimate due to an increase in the number of entities who are registered for the Planning Authority, Reliability Coordinator, Transmission Planner, and Transmission Operator functions. The new estimated average annualized cost is $6,640,500 ($14,128.72 per respondent), as shown here:

⁶ This figure comes from NERC's compliance registry matrix which was updated on 10/27/10 and includes all entities registered as a Planning Authority, Reliability Coordinator, Transmission Planner, or Transmission Operator functions that are responsible for compliance with FAC-014-2.

⁷ Hours are attributable to developing SOLs. Recordkeeping pertains to the documentation to be maintained for audits.

• Reporting: ⁸ 42,300 hours @ $95/hour = $4,018,500.

⁸ Estimate based on hourly costs for legal, technical and administrative staff. See http://www.bls.gov/oes/current/naics2_22.htm and http://www.marylandlawyerblog.com/2009/07/average_hourly_rate_for_lawyer.html.

• Recordkeeping: ⁹ 98,700 hours @ $26/hour = $2,566,200.

⁹ Estimate based on hourly costs for technical and clerical staff. See http://www.bls.gov/oes/current/naics2_22.htm.

• Storage: ¹⁰ 1,800 sq. ft. @ $31/sq. ft. = $55,800.

¹⁰ Estimate based on in-office square foot costs obtained from a Commission assessment of the industry performed in 2010.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Kimberly D. Bose,
Secretary.

[FR Doc. 2010-29571 Filed 11-23-10; 8:45 am]

BILLING CODE 6717-01-P